DEPARTMENT OF JUSTICE

Notice of Lodging of Consent Decrees Pursuant to the Clean Water Act

Notice is hereby given that proposed consent decrees embodying settlements in United States and State of California v. City of Los Angeles and City of Burbank, et al., Civ No. 77-3047-HP were lodged on December 30, 1999, with the United States District Court for the Central District of California.

The Third Amended and Supplemental Complaint filed jointly by the United States and the State of California alleged, among other things, that the cities of Los Angeles and Burbank had violated the pretreatment requirements established under section 307(b) of the Clean Water Act, 33 U.S.C. § 1317(b). Specifically, the complaint alleged that the cities failed to adequately implement their required pretreatment programs, in that they failed to ensure that industrial dischargers to the cities' treatment works complied with the discharge and monitoring requirements of the pretreatment regulations. The State pled parallel claims under the California Water Code. The complaint sought civil penalties and injunctive relief against the cities.

The proposed consent decree resolves the liability of the cities for the violations alleged in the complaint. Under the decree, Los Angeles will pay a civil penalty of $236,000 and perform Supplemental Environmental Projects (water reclamation and low-flow storm discharge diversion) projected to cost at least $15 million. Burbank will pay a civil penalty of $137,000 and perform a Supplemental Environmental Project (advanced secondary treatment upgrades) estimated to cost at least $2.1 million.

The Department of Justice will receive, for a period of thirty (30) days from the date of this publication, comments relating to the proposed consent decrees. Comments should be addressed to the Assistant Attorney General for the Environment and Natural Resources Division, U.S. Department of Justice, Washington, DC 20530, and should refer to United States and State of California v. City of Los Angeles and City of Burbank, et al., DOJ Ref. No. 90-5-1-1-809B.

The proposed consent decree may be examined at the office of the United States Attorney, Central District of California, Federal Building, Room 7516, 300 North Los Angeles Street, Los Angeles, California 90012; and at the Region IX Office of the Environmental Protection Agency, 75 Hawthorne Street, San Francisco, California 94105. A copy of the Consent Decree may be also be obtained by mail from the Consent Decree Library, P.O. Box 7611, Washington, DC 20044-7611. In requesting a copy, please refer to the referenced case and enclose a check in the amount of $6.75 for the Los Angeles decree and $6.00 for the Burbank decree (25 cents per page reproduction costs), payable to the Consent Decree Library.

Joel Gross,
Chief, Environmental Enforcement Section, Environment and Natural Resources Division.

[FR Doc. 00-1879 Filed 1-26-00; 8:45 am]

BILLING CODE 4410-15-M